DEPARTMENT OF ENERGY

Federal Energy Regulatory Commission

[Project No. 15238-000]

PacifiCorp; Notice of Preliminary Permit Application Accepted for Filing and Soliciting Comments, Motions To Intervene, and Competing Applications

On October 13, 2021, PacifiCorp filed an application for a preliminary permit, pursuant to section 4(f) of the Federal Power Act (FPA), proposing to study the feasibility of the Box Elder Pumped Storage Project to be located in Converse County, approximately 10 miles southeast of Glenrock, Wyoming. The sole purpose of a preliminary permit, if issued, is to grant the permit holder priority to file a license application during the permit term. A preliminary permit does not authorize the permit holder to perform any land-disturbing activities or otherwise enter upon lands or waters owned by others without the owners' express permission.

Two alternatives are being considered for the Box Elder Pumped Storage Project. They are located approximately 1.5 miles apart, share a similar configuration, and connect to the same existing electrical grid substation. Alternative 1 would consist of the following new facilities: (1) an upper reservoir with a surface area of 161 acres created by a 2,120-foot-long, 400-foot-high embankment dam; (2) a lower reservoir with a surface area of 110 acres and a storage volume of approximately 5,222 acre-feet created by a 5,400-foot-long, 60-foot-high embankment dam; (3) a 2-mile-long steel penstock with a diameter of 25.5-feet; (4) a 150-foot-long, 50-foot-wide concrete powerhouse/pump station located on the lower reservoir shoreline containing up to three generating/pumping units for a total generating capacity of 500 MW; (5) an approximate 5.3-mile, 230-kilovolt (kV) transmission line from the powerhouse to the existing Dave Johnston substation that would interconnect to the regional transmission grid; (6) an approximately 5.3-mile-long underground pipeline with a diameter of 24-inches diverting water from the North Platte River for construction, initial fill, and annual maintenance fill (supplemental water may be used from other sources, including Box Elder Creek); and, (7) appurtenant facilities.

Most of the facilities for Alternative 2 (i.e., project reservoirs, penstock, and powerhouse, etc.) would be located approximately 1-2 miles southeast of their counterparts under Alternative 1. Alternative 2 would consist of the following new facilities: (1) an upper reservoir with a surface area of 281 acres created by a 470-foot-long, 130-foot-high embankment dam; (2) a lower reservoir with a surface area of 116 acres and a storage volume of approximately 5,062 acre-feet created by a 4,000-foot-long, 45-foot-high embankment dam; (3) a 4.8-mile-long steel penstock with a diameter of 25.5-feet) connecting the upper reservoir with the powerhouse/pump station; (4) a 150-foot-long, 50-foot-wide concrete powerhouse/pump station located on the lower reservoir shoreline containing up to three generating/pumping units for a total generating capacity of 500 MW; (5) an approximate 8.3-mile, 230-kV transmission line interconnecting to the same substation under Alternative 1; (6) an approximately 8.3-mile-long underground pipeline with a diameter of 24-inches diverting water from the North Platte River for construction, initial fill, and annual maintenance fill (supplemental water may be used from other sources, including Box Elder Creek); and, (7) appurtenant facilities.

The estimated annual generation of the Project would be 1,390 gigawatt-hours (GWh).

Applicant Contact: Tim Hemstreet, Managing Director, Renewable Energy Development, PacifiCorp, 825 NE Multnomah, Suite 1800, Portland, OR 97232; email: Tim.Hemstreet@pacificorp.com; phone: (503) 813-6170.

FERC Contact: Jeffrey Ackley at jeffrey.ackley@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue Rockville, Maryland 20852. The first page of any filing should include docket number P-15238-000.

More information about this project, including a copy of the application, can be viewed or printed on the “eLibrary” link of Commission's website at http://www.ferc.gov/docs-filing/elibrary.asp. Enter the docket number (P-15238) in the docket number field to access the document. For assistance, contact FERC Online Support.

Dated: July 13, 2022.
Kimberly D. Bose,
Secretary.

[FR Doc. 2022-15368 Filed 7-18-22; 8:45 am]

BILLING CODE 6717-01-P